DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2001, there were 10 applications approved. This notice also includes information on one application, approved in May 2001, inadvertently left off the May 2001 notice. Additionally, 16 approved amendments to previously approved applications are listed.

SUMMARY: The FAA publishes a monthly notice, as appropriate, of PFC approvals and disapprovals under the provisions of the Aviation Safety and Capacity Expansion Act of 1990 (Title IX of the Omnibus Budget Reconciliation Act of 1990) (Public Law 101-508) and Part 158 of the Federal Aviation Regulations (14 CFR Part 158). This notice is published pursuant to paragraph d of § 158.29.

PFC Applications Approved

Public Agency: Airport Authority of Washoe County, Reno, Nevada.

Application Number: 01-04-C-00-RNO.

Application Type: Impose and use a PFC.

PFC Level: $4.50.

Total PFC Revenue Approved in This Decision: $16,136,466.

Earliest Charge Effective Date: August 1, 2001.

Estimated Charge Expiration Date: February 1, 2003.

Class of Air Carriers Not Required To Collect PFC's: Nonscheduled/on-demand air carriers filing FAA Form 1800-31.

Determination: Approved. Based on information contained in the public agency's application, the FAA has determined that the proposed class accounts for less than 1 percent of the total annual enplanements at Reno/Tahoe International Airport.

Brief Description of Project Approved for Collection at a $4.50 PFC Level: Southern portion of southwest air cargo ramp.

Brief Description of Projects Approved for Collection and Use at a $4.50 PFC Level:

Environmental assessment for southwest air cargo facility.

Taxiway A north reconstruction.

Terminal building security system.

Brief Description of Project Approved for Collection At a $3.00 PFC Level: Southwest air cargo facility road and utilities.

Brief Description of Projects Approved for Collection and Use at a $3.00 PFC Level:

Ramp scrubber.

Part 150 study update.

Eight jet bridges.

Brief Description of Withdrawn Project: Letter of Intent entitlement grant shortfall due to implementation of PFC.

Determination: This project was withdrawn by the public agency in its letter dated May 18, 2001. Therefore, the FAA did not rule on this project in this decision.

Decision Date: May 31, 2001.

For Further Information Contact: Marlys Vandervelde, San Francisco Airports District Office, (650) 876-2806.

Public Agency: City of Atlanta, Department of Aviation, Atlanta, Georgia.

Application Number: 00-02-U-00-ATL.

Application Type: Use PFC revenue.

PFC Level: $4.50.

Total PFC Revenue To Be Used in This Decision: $540,696,966.

Charge Effective Date: May 1, 1997.

Estimated Charge Expiration Date: May 1, 2005.

Class of Air Carriers Not Required To Collect PFC's: No change from previous decision.

Brief Description of Project Approved for Use at a $3.00 PFC Level: Design and construct roadway improvements.

Brief Description of Project Approved for Use at a $4.50 PFC Level: Design and construction of eastside terminal.

Decision Date: June 6, 2001.

For Further Information Contact: Terry Washington, Atlanta Airports District Office, (404) 305-7143.

Public Agency: City and Bureau of Juneau, Juneau, Alaska.

Application Number: 01-04-U-00-JNU.

Application Type: Use PFC revenue.

PFC Level: $3.00.

Total PFC Revenue To Be Used in This Decision: $32,298.

Charge Effective Date: October 1, 1998.

Estimated Charge Expiration Date: August 1, 2000.

Class of Air Carriers Not Required To Collect PFC's: No change from previous decision.

Brief Description of Project Approved for Use: East end general aviation area development.

Decision Date: June 8, 2001.

For Further Information Contact: Debbie Roth, Alaska Region Airports Division, (907) 271-5443.

Public Agency: Central West Virginia Regional Airport Authority, Charleston, West Virginia.

Application Number: 01-07-C-00-CRW.

Application Type: Impose and use a PFC.

PFC Level: $4.50.

Total PFC Revenue Approved in This Decision: $1,306,248.

Earliest Charge Effective Date: August 1, 2002.

Estimated Charge Expiration Date: September 1, 2003.

Classes of Air Carriers Not Required to Collected PFC's: (1) Part 121 charters for hire to the general public; (2) Part 135 charters for hire to the general public; (3) non-signatory and non-scheduled air carriers operating at the airport.

Determination: Approved. Based on information contained in the public agency's application, the FAA has determined that each proposed class accounts for less than 1 percent of the total annual enplanements at Yeager Airport.

Brief Description of Projects Approved for Collection and Use:

Purchase and install security camera.

Rehabilitate terminal—restrooms.

Expand main terminal apron.

Emergency generator.

Main apron rehabilitation.

Brief Description of Projects Approved for Collection:

Purchase and install security paging system.

Runway safety area enhancement—taxiway relocation.

Decision Date: June 15, 2001.

For Further Information Contact: Kenneth Kroll, Eastern Region Airports Division, (718) 553-3357.

Public Agency: County of Eagle, Eagle, Colorado.

Application Number: 01-05-C-00-EGE.

Application Type: Impose and use a PFC.

PFC Level: $4.50.

Total PFC Revenue Approved in This Decision: $8,132,120.

Earliest Charge Effective Date: June 1, 2009.

Estimated Charge Expiration Date: September 1, 2018.

Class of Air Carriers Not Required To Collect PFC's: None.

Brief Description of Project Approved for Collection and Use: Commercial terminal building expansion.

Decision Date: June 18, 2001.

For Further Information Contact: Chris Schaffer, Denver Airports District Office, (303) 342-1258.

Public Agency: City of Pocatello, Idaho.

Application Number: 01-03-C-00-PIH.

Application Type: Impose and use a PFC.

PFC Level: $4.50.

Total PFC Revenue Approved in This Decision: $549,967.

Earliest Charge Effective Date: October 1, 2001.

Estimated Charge Expiration Date: January 1, 2005.

Class of Air Carriers Not Required To Collect PFC'S: Non-scheduled air taxi/commercial operators utilizing aircraft having a seating capacity of less than 20 passengers.

Determination: Approved. Based on information contained in the public agency's application, the FAA has determined that the approved class accounts for less than 1 percent of the total annual enplanements at Pocatello Regional Airport.

Brief Description of Projects Approved for Collection and Use:

Security fencing and automated gates.

Snow removal equipment procurement.

Rehabilitation of apron.

Airport signing project.

Terminal apron rehabilitation.

Procurement of aircraft rescue and firefighting vehicle.

Master plan.

Procurement of snow removal equipment.

Main entrance road rehabilitation.

Installation of precision approach path indicators and runway end identifier lights.

Apron rehabilitation.

Snow equipment storage/maintenance building.

Decision Date: June 18, 2001.

For Further Information Contact: Suzanne Lee-Pang, Seattle Airports District Office, (425) 227-2654.

Public Agency: MBS International Airport Commission, Saginaw, Michigan.

Application Number: 01-04-C-00-MBS.

Application Type: Impose and use a PFC.

PFC Level: $3.00.

Total PFC Revenue Approved in This Decision: $1,999,052.

Earliest Charge Effective Date: September 1, 2005.

Estimated Charge Expiration Date: June 1, 2008.

Class of Air Carriers Not Required To Collect PFC'S: Part 135 air taxi/commercial operators filing FAA Form 1800-31.

Determination: Approved. Based on information contained in the public agency's application, the FAA has determined that the approved class accounts for less than 1 percent of the total annual enplanements at MBS International Airport.

Brief Description of Projects Approved for Collection and Use: Snow removal equipment procurement, front end loader (unit 2).

Design and expand snow removal equipment building, phase II. Expand airline terminal building, design only. Reimbursement of charges for PFC application preparation. Land acquisition, Draper property. Rehabilitate field lighting, runways and taxiways.

Decision Date: June 22, 2001.

For Further Information Contact: Jon Gilbert, Detroit Airports District Office, (734) 487-7281.

Public Agency: American Samoa Government Department of Port Administration, Pago Pago, American Samoa.

Application Number: 01-02-C-00-PPG.

Application Type: Impose and use a PFC.

PFC Level: $4.50.

Total PFC Revenue Approved in This Decision: $765,000.

Earliest Charge Effective Date: September 1, 2001.

Estimated Charge Expiration Date: June 1, 2003.

Class of Air Carriers Not Required To Collect PFC'S: None.

Brief Description of Project Approved for Collection and Use: Terminal improvements.

Decision Date: June 27, 2001.

For Further Information Contact: Steven Wong, Honolulu Airports District Office, (808) 541-1225.

Public Agency: City of Modesto, California.

Application Number: 01-06-C-00-MOD.

Application Type: Impose and use a PFC.

PFC Level: $3.00.

Total PFC Revenue Approved in This Decision: $124,180.

Earliest Charge Effective Date: September 1, 2001.

Estimated Charge Expiration Date: September 2, 2003.

Class of Air Carriers Not Required To Collect PFC'S: None.

Brief Description of Projects Approved for Collection and Use:

General aviation and terminal security lights.

Runway sweeper and equipment shelter.

General aviation and terminal service road seal.

Air carrier and transient aircraft apron expansion and reconstruction.

Airport master plan and environmental impact report.

Decision Date: June 27, 2001.

For Further Information Contact: Marlys Vandervelde, San Francisco Airports District Office, (650) 876-2806.

Public Agency: Little Rock National Airport, Little Rock, Arkansas.

Application Number: 01-03-C-00-LIT.

Application Type: Impose and use a PFC.

PFC Level: $4.50.

Total PFC Revenue Approved in This Decision: $15,986,750.

Earliest Charge Effective Date: September 1, 2001.

Estimated Charge Expiration Date: May 1, 2004.

Class of Air Carriers Not Required To Collect PFC'S: Air taxi/commercial operators filing FAA Form 1800-31.

Determination: Approved. Based on information contained in the public agency's application, the FAA has determined that the proposed class accounts for less than 1 percent of the total annual enplanements at Little Rock National Airport.

Brief Description of Project Approved for Collection: Runway 4R/22L extension and Roosevelt Road and Grundfest Drive relocations.

Brief Description of Projects Approved for Collection and Use:

Acquire snow broom.

Acquire rapid response vehicle.

Terminal ramp expansion.

Runway 4L/22R arresting system, southwest perimeter road, and relocate taxiway A.

Expand cargo ramp and runway 22R holding apron.

Terminal building renovation.

PFC development.

Brief Description of Withdrawn Project: North and east areas property acquisition.

Determination: This project was withdrawn by the public agency in its letter dated June 27, 2001. Therefore, the FAA did not rule on this project in this decision.

Decision Date: June 29, 2001.

For Further Information Contact: Dean A. McMath, Southwest Region Airports Division, (817) 222-5617.

Public Agency: Valdosta-Lowndes County Airport Authority, Valdosta, Georgia.

Application Number: 01-05-C-00-VLD.

Application Type: Impose and use a PFC.

PFC Level: $4.50.

Total PFC Revenue Approved in This Decision: $315,826.

Earliest Charge Effective Date: September 1, 2001.

Estimated Charge Expiration Date: November 1, 2003.

Class of Air Carriers Not Required To Collect PFC's: (1)Nonscheduled/on-demand air carriers filing FAA Form 1800-31; (2) nonscheduled large certificated route air carriers filing Research and Special Programs Administration Form T-100.

Determination: Approved. Based on information contained in the public agency's application, the FAA has determined that each proposed class accounts for less than 1 percent of the total annual enplanements at Valdosta Regional Airport.

Brief Description of Projects Approved for Collection and Use:

Master plan.

Install Part 139 signage.

Install lighting on airport apron.

Paint runway marking.

Construct aircraft parking apron for new commercial air terminal.

Construct partial parallel taxiway and taxiway stub.

Rehabilitate runway 17/35 lighting.

Install sliding security gates with key pads.

Approach zone obstruction study.

Repair drainage problems.

Runway hold bar marking.

Purchase of passenger lift device.

Tree removal around automated surface observation system.

Preparation of PFC application.

Runway protection zone obstruction clearing.

Overlay taxiway C.

Overlay taxiway F.

Replace rotating beacon.

Replace visual approach slope indicator (VASI) with precision approach path indicator (PAPI) and install runway end identifier lights on runway 4/22.

Replace VASI with PAPI on runway 17 and install PAPI on runway 35.

Expand terminal parking lot.

Construct perimeter road around north end of runway 17/35.

Rehabilitate taxiway A.

Rehabilitate general aviation apron.

Brief Description of Withdrawn Projects:

Obtain avigation or fee simple easement off the ends of runway 4/22.

Non-precision approach runway marking for runway 4/22.

Expand commuter apron.

Environmental assessment for runway 17 extension.

Construct T-hangar taxilane.

Extend taxiway M.

Determination: These projects were withdrawn by the public agency in its letter dated June 19, 2001. Therefore, the FAA did not rule on these projects in this decision.

Decision Date: June 29, 2001.

For Further Information Contact: Rusty Nealis, Atlanta Airports District Office, (404) 305-7142.

Amendments to PFC Approvals

Amendment No., city, state | Amendment approved date | Original approved net PFC revenue | Amended approved net PFC revenue | Original estimated charge exp. date | Amended estimated charge exp. date.
99-01-C-01-AGS, Augusta, GA* | 05/01/01 | $29,169,803 | $28,835,139 | 09/01/26 | 07/01/20
97-02-C-02-YNG, Youngstown, OH | 05/30/01 | 384,078 | 440,178 | 07/01/02 | 02/01/02
94-02-C-04-DAY, Dayton, OH* | 06/07/01 | 45,742,740 | 26,754,756 | 01/01/10 | 07/01/03
94-01-C-01-LNS, Lancaster, PA | 06/07/01 | 1,750,800 | 1,483,000 | 02/01/15 | 02/01/09
96-01-I-02-ENV, Wendover, UT | 06/07/01 | 6,807,996 | 142,300 | 12/01/32 | 10/01/99
96-02-U-01-ENV, Wendover, UT | 06/07/01 | NA | NA | 12/01/32 | 10/01/99
98-03-C-03-CPR, Casper, WY | 06/08/01 | 614,857 | 274,412 | 10/01/01 | 04/01/01
93-01-C-05-RHI, Rhinelander, WI | 06/15/01 | 193,301 | 210,219 | 01/01/01 | 10/01/96
96-03-C-01-RHI, Rhinelander, WI | 06/18/01 | 332,000 | 363,927 | 10/01/00 | 07/01/00
98-05-C-02-RHI, Rhinelander, WI | 06/19/01 | 36,500 | 35,701 | 07/01/00 | 10/01/00
95-01-C-01-LIT, Little Rock, AR | 06/20/01 | 32,765,055 | 25,164,000 | 06/01/03 | 09/01/01
96-02-U-01-LIT, Little Rock, AR | 06/20/01 | NA | NA | 06/01/03 | 09/01/01
00-06-C-01-RHI, Rhinelander, WI* | 06/20/01 | 335,056 | 445,303 | 02/01/03 | 01/01/04
96-01-C-01-BRL, Burlington, IA* | 06/22/01 | 460,000 | 521,299 | 04/01/03 | 02/01/06
00-02-C-01-MFE, McAllen, TX | 06/26/01 | 2,424,500 | 2,032,942 | 09/01/04 | 06/01/04
97-05-C-01-CMX, Hancock, MI | 06/29/01 | 71,634 | 82,379 | 07/01/99 | 08/01/01
Note: The amendments denoted by an asterisk (*) include a change to the PFC level charged from $3.00 per enplaned passenger to $4.50 per enplaned passenger. For Augusta, GA, this change is effective on July 1, 2001. For Burlington, IA, Dayton, OH, and Rhinelander, WI, this change is effective on September 1, 2001.

Issued in Washington, DC, on July 31, 2001.
Eric Gabler,
Manager, Passenger Facility Charge Branch.

[FR Doc. 01-19645 Filed 8-6-01; 8:45 am]

BILLING CODE 4910-13-M